DEPARTMENT OF HOMELAND SECURITY

U.S. Customs and Border Protection

[1651-0117]

Agency Information Collection Activities: Free Trade Agreements

AGENCY: U.S. Customs and Border Protection, Department of Homeland Security.

ACTION: 30-Day notice and request for comments; extension of an existing collection of information.

SUMMARY: U.S. Customs and Border Protection (CBP) of the Department of Homeland Security will be submitting the following information collection request to the Office of Management and Budget (OMB) for review and approval in accordance with the Paperwork Reduction Act: Free Trade Agreements. This is a proposed extension of an information collection that was previously approved. CBP is proposing that this information collection be extended with a change to the burden hours, but no changes to the information collected. This document is published to obtain comments from the public and affected agencies.

DATES: Written comments should be received on or before April 10, 2015 to be assured of consideration.

ADDRESSES: Interested persons are invited to submit written comments on this proposed information collection to the Office of Information and Regulatory Affairs, Office of Management and Budget. Comments should be addressed to the OMB Desk Officer for Customs and Border Protection, Department of Homeland Security, and sent via electronic mail to oira_submission@omb.eop.gov or faxed to (202) 395-5806.

FOR FURTHER INFORMATION CONTACT: Requests for additional information should be directed to Tracey Denning, U.S. Customs and Border Protection, Regulations and Rulings, Office of International Trade, 90 K Street NE., 10th Floor, Washington, DC 20229-1177, at 202-325-0265.

SUPPLEMENTARY INFORMATION: This proposed information collection was previously published in the Federal Register (79 FR 68458) on November 17, 2014, allowing for a 60-day comment period. This notice allows for an additional 30 days for public comments. This process is conducted in accordance with 5 CFR 1320.10. CBP invites the general public and other Federal agencies to comment on proposed and/or continuing information collections pursuant to the Paperwork Reduction Act of 1995 (Pub. L. 104-13; 44 U.S.C. 3507). The comments should address: (a) Whether the collection of information is necessary for the proper performance of the functions of the agency, including whether the information shall have practical utility; (b) the accuracy of the agency's estimates of the burden of the collection of information; (c) ways to enhance the quality, utility, and clarity of the information to be collected; (d) ways to minimize the burden, including the use of automated collection techniques or the use of other forms of information technology; and (e) the annual costs to respondents or record keepers from the collection of information (total capital/startup costs and operations and maintenance costs). The comments that are submitted will be summarized and included in the CBP request for OMB approval. All comments will become a matter of public record. In this document, CBP is soliciting comments concerning the following information collection:

Title: Free Trade agreements.

OMB Number: 1651-0117.

Form Number: None.

Abstract: Free trade agreements are established to reduce and eliminate trade barriers, strengthen and develop economic relations, and to lay the foundation for further cooperation to expand and enhance benefits of the agreement. These agreements establish free trade by reduced-duty treatment on imported goods.

The U.S. has entered into the following Free Trade Agreements: United States-Chile Free Trade Agreement (US-CFTA) (Pub. L. 108-77); the Republic of Singapore (Pub. L. 108-78, 117 Stat. 948, 19 U.S.C. 3805 note); Australia (Pub. L. 108-286); Morocco (Pub. L. 108-302); Jordan (Pub. L. 107-43); Bahrain (Pub. L. 109-169); Oman (Pub. L. 109-283); Peru (Pub. L. 110-138, 121 Stat. 1455); Korea (Pub. L. 112-41); Colombia (Pub. L. 112-42, 125 Stat. 462); Panama (Pub. L. 112-43); and Costa Rica, the Dominican Republic, El Salvador, Guatemala, Honduras, and Nicaragua (CAFTA-DR) (Pub. L. 109-53, 119 Stat. 462).

These free trade agreements involve collection of data elements such as information about the importer and exporter of the goods, a description of the goods, tariff classification number, and the preference criterion in the Rules of Origin. Respondents can obtain information on how to make claims under these Free Trade Agreements by going to http://www.cbp.gov/trade/free-trade-agreements and use a standard fillable format for the FTA submission by going to http://www.cbp.gov/document/guides/certification-origin-template.

Current Actions: CBP has reevaluated the time necessary to prepare and submit information related to these free trade agreements. Prior to this submission, CBP estimated a time per response of 12 minutes, or 0.2 hours. Based on our recent evaluation, CBP believes that 2 hours per response is a more accurate estimate. This update increased the estimated burden hours for this information collection from 71,220 annual hours to 722,000 annual hours. In addition to reevaluating the burden hours associated with free trade agreements, CBP has also added the Dominican Republic-Central American-United States Free Trade Agreement (CAFTA-DR) to this information collection. Previously, CAFTA-DR was reported under OMB Control Number 1651-0125.

Type of Review: Extension (with change).

Affected Public: Businesses.

Estimated Number of Respondents: 359,400.

Estimated Number of Total Annual Responses: 361,000.

Estimated Time per Response: 2 hours.

Estimated Total Annual Burden Hours: 722,000.

Dated: March 4, 2015.
Tracey Denning,
Agency Clearance Officer, U.S. Customs and Border Protection.

[FR Doc. 2015-05554 Filed 3-10-15; 8:45 am]

BILLING CODE 9111-14-P